DEPARTMENT OF HEALTH AND HUMAN SERVICES

Administration for Children and Families

[CFDA NUMBER: 93.550]

Announcement of the Award of a Single-Source Expansion Supplement Grant to National Safe Place Network in Louisville, KY

AGENCY: Family and Youth Services Bureau, ACYF, ACF, HHS.

ACTION: Notice of the award of a single-source expansion supplement grant to support the Runaway and Homeless Youth Training and Technical Assistance Center (RHYTTAC) operated by the National Safe Place Network to expand the original scope of approved activities.

SUMMARY: The Administration for Children and Families (ACF), Administration on Children, Youth and Families (ACYF), Family and Youth Services Bureau (FYSB), Division of Adolescent Development and Support (DADS), announces the award of a single-source expansion supplement grant of $852,000 to the National Safe Place Network located in Louisville, KY, to support costs associated with the expansion of the scope of approved activities under its award for the Runaway and Homeless Youth Training and Technical Assistance Center (RHYTTAC).

DATES: The period of support under this supplement is September 30, 2015, through September 29, 2016.

FOR FURTHER INFORMATION CONTACT: Christopher Holloway, Program Manager, Runaway and Homeless Youth Program, Division of Adolescent Development and Support, Family and Youth Services Bureau, 330 C Street SW., Washington, DC 20201. Telephone: 202-205-9560; Email: Christopher.Holloway@acf.hhs.gov.

SUPPLEMENTARY INFORMATION: The expansion supplement award will allow the National Safe Place Network to:

• Provide Runaway and Homeless Youth (RHY) grantees with resources necessary to better understand and respond to human trafficking through the creation of a Community Awareness Toolkit and Youth Prevention Action Kit, which will enhance their sustainability to provide human trafficking related services;

• Provide a clear and responsive framework by which all grantees of Domestic Victims of Human Trafficking (DVHT) funding can access relevant training and responsive technical assistance;

• Partner with a national leader in services to human trafficking victims/survivors to provide all RHY grantees with enhanced access to human trafficking information on assessments, referrals, applicable state laws and trafficking, including sex and labor categories;

• Provide stipends to grantees to assist them in meeting federal requirements to submit data under RHY-Homeless Management Information System (RHY-HMIS).

Using evidence-based practices derived from the best available research, professional expertise, and input from youth and families, RHYTTAC serves as a national resource for training and technical assistance directed to assisting RHY organizations in their engagement in continuous quality improvement of their services in building organizational capacity to effectively serve runaway and homeless youth. RHYTTAC's focus is to help the nation's network of RHY service providers boost “protective factors” for their clients.

Statutory Authority: Runaway and Homeless Youth Act, 42 U.S.C. 5701 through 5752, as most recently amended by the Reconnecting Homeless Youth Act of 2008, Public Law 110-378 on October 8, 2008.

Christopher Beach,
Senior Grants Policy Specialist, Division of Grants Policy, Office of Administration.

[FR Doc. 2016-08654 Filed 4-14-16; 8:45 am]

BILLING CODE 4184-33-P